LIBRARY OF CONGRESS

Copyright Office

[Docket No. 2004-2 CARP]

Copyright Arbitration Royalty Panels; List of Arbitrators

AGENCY: Copyright Office, Library of Congress.

ACTION: Publication of the 2004-2005 CARP arbitrator list.

SUMMARY: The Copyright Office is publishing the list of arbitrators eligible for service on a Copyright Arbitration Royalty Panel (“CARP”) during 2004 and 2005. This list will be used to select the arbitrators who will serve on panels initiated in 2004 and 2005 for determining the distribution of royalty fees or the adjustment of royalty rates.

EFFECTIVE DATE: February 4, 2004.

FOR FURTHER INFORMATION CONTACT: Susan N. Grimes, P.O. Box 70977, Southwest Station, Washington, DC 20024. Telephone: (202) 707-8380.

SUPPLEMENTARY INFORMATION:

Background

For royalty rate adjustments and distributions that are in controversy, the Copyright Act requires the selection of a Copyright Arbitration Royalty Panel (“CARP”) consisting of three arbitrators from “lists provided by professional arbitration associations.” See 17 U.S.C. 802(b). The Librarian of Congress selects two of the arbitrators for a CARP from a list of nominated arbitrators; those selected then choose a third arbitrator to serve as chairperson of the panel. If the two arbitrators cannot agree, the Librarian is instructed to select the third arbitrator.

On December 7, 1994, the Copyright Office issued final regulations implementing the CARP selection process. 59 FR 63025 (December 7, 1994). Subsequently, these rules were amended to provide for the generation of a new list of nominees biennially. 61 FR 63715 (December 2, 1996). Section 251.3(a) of the regulations allows any professional arbitration association or organization to nominate qualified individuals, as described in § 251.5, to serve as arbitrators on a CARP. The regulations require that the submitting arbitration association supply the following information for each person:

(1) The full name, address, and telephone number of the person.

(2) The current position and name of the person's employer, if any, along with a brief summary of the person's employment history, including areas of expertise, and, if available, a description of the general nature of clients represented and the types of proceedings in which the person represented clients.

(3) A brief description of the educational background of the person, including teaching positions and membership in professional associations, if any.

(4) A statement of the facts and information which qualify the person to serve as an arbitrator under § 251.5.

(5) A description or schedule detailing fees proposed to be charged by the person for service on a CARP.

(6) Any other information which the professional arbitration association or organization may consider relevant. 37 CFR 251.3(a).

Section 251.3(b) of the regulations requires the Copyright Office to publish a list of qualified persons and mandates that this list must include between 30 and 75 names of persons who were nominated from at least three arbitration associations. The newly comprised list of arbitrators will be in effect until the end of the 2005 calendar year, and any arbitrator selected for a CARP during 2004 and 2005 will come from this list. The list includes the name of the nominee and the nominating association.

The publication of today's list satisfies the requirement of 37 CFR 251.3. The information submitted by the arbitration association with respect to each person listed is available for copying and inspection at the Licensing Division of the Copyright Office. Thus, for example, if the Librarian is required to convene a CARP in 2004 for a royalty fee distribution, parties to that proceeding may review that information as a means of formulating objections to listed arbitrators under § 251.4. The Licensing Division of the Copyright Office is located in the Library of Congress, James Madison Building, LM-458, 101 Independence Avenue, SE., Washington, DC 20540.

Deadline for Filing Financial Disclosure Statement

Section 251.32(a) of the CARP rules provides that, within 45 days of their nomination, each nominee must “file with the Librarian of Congress a confidential financial disclosure statement as provided by the Library of Congress.” The Copyright Office sent financial disclosure statements to the nominating associations, with specific instructions for completing and filing the statement, and asked each organization to distribute the forms to its nominees for the CARP arbitrator list. The Librarian of Congress will use the financial disclosure form to determine what financial conflicts of interest, if any, may preclude the nominee from serving as an arbitrator in a CARP proceeding. Unlike information submitted by the arbitration associations under § 251.3(a), the information contained in the financial disclosure statements is confidential and is not available to the public or to the parties to the proceeding. Each nominee has filed a completed financial disclosure form with the Librarian of Congress.

The 2004-2005 CARP Arbitrator List

The Honorable James M. Bailey—Judicial Dispute Resolution, Inc

Dorothy K. Campbell—Intellectual Property Neutrals

Jerry Cohen—JAMS

The Honorable John W. Cooley—Judicial Dispute Resolution, Inc

Robert Davidson—JAMS

Mark J. Davis—American Arbitration Association

The Honorable Gino L. DiVito—Judicial Dispute Resolution, Inc

The Honorable Michael W. Doheny—Arbitration & Mediation Services

Edward Dreyfus—American Arbitration Association

Robert Faulkner—JAMS

Bruce G. Forrest, Esq.—Arbitration & Mediation Services

Michael Getty—JAMS

Margery F. Gootnick, Esq.—Arbitration & Mediation Services

Jerry Grissom—JAMS

The Honorable Jeffrey S. Gulin—Arbitration & Mediation Services

William Hartgering—JAMS

Katherine Hendricks—American Arbitration Association

Harold Himmelman—JAMS

The Honorable Louis N. Hurwitz—Arbitration & Mediation Services

Nancy F. Lesser—American Arbitration Association

Richard Andrew Levie—JAMS

Joel Levine—American Arbitration Association

The Honorable John P. Mahoney—Arbitration & Mediation Services

William McDonald—JAMS

Gloria Messinger—American Arbitration Association

Cecilia Morgan—JAMS

Cherly Niro—Judicial Dispute Resolution, Inc

Timothy T. Patula—American Arbitration Association

Alexander Polsky—JAMS

Kathleen Roberts—JAMS

Richard Sayler—American Arbitration Association

Vivien Shelanski—JAMS

James Sullivan—JAMS

Pamela Tynes—JAMS

Curtis von Kann—JAMS

Eric Van Loon—JAMS

The Honorable Michael Wolf—Arbitration & Mediation Services

Michael Young—JAMS

Gregg Zeggarelli—American Arbitration Association

Dated: January 29, 2004.
David O. Carson,
General Counsel.

[FR Doc. 04-2288 Filed 2-3-04; 8:45 am]

BILLING CODE 1410-33-P